COMMISSION ON CIVIL RIGHTS

Notice of Public Meeting of the California Advisory Committee

AGENCY: U.S. Commission on Civil Rights.

ACTION: Announcement of virtual business meetings.

SUMMARY: Notice is hereby given, pursuant to the provisions of the rules and regulations of the U.S. Commission on Civil Rights (Commission) and the Federal Advisory Committee Act (FACA) that the California Advisory Committee (Committee) to the U.S. Commission on Civil Rights will hold a series of virtual business meetings via ZoomGov on the following dates and times listed below. These meetings are for the purpose of reviewing and discussing the latest draft of their report on the civil rights implications of AB5.

DATES: These meetings will take place on:

• Friday, October 6, 2023, from 1:00 p.m.-2:30 p.m. PT

• Friday, November 3, 2023, from 1:00 p.m.-2:30 p.m. PT

• Friday, December 1, 2023, from 1:00 p.m.-2:30 p.m. PT

Zoom Link To Join: https://www.zoomgov.com/meeting/register/vJItc-Cppj4tEwuaYQDhCjO8NPtQyYyDIZw.

FOR FURTHER INFORMATION CONTACT: Brooke Peery, Designated Federal Officer (DFO) at bpeery@usccr.gov or by phone at (202) 701-1376.

SUPPLEMENTARY INFORMATION: Committee meetings are available to the public through the registration link above. Any interested member of the public may listen to the meeting. An open comment period will be provided to allow members of the public to make a statement as time allows. Per the Federal Advisory Committee Act, public minutes of the meeting will include a list of persons who are present at the meeting. If joining via phone, callers can expect to incur regular charges for calls they initiate over wireless lines, according to their wireless plan. The Commission will not refund any incurred charges. Callers will incur no charge for calls they initiate over land-line connections to the toll-free telephone number. Closed captioning will be available for individuals who are deaf, hard of hearing, or who have certain cognitive or learning impairments. To request additional accommodations, please email Angelica Trevino, Support Services Specialist at atrevino@usccr.gov at least 10 business days prior to the meeting.

Members of the public are entitled to make comments during the open period at the end of the meeting. Members of the public may also submit written comments; the comments must be received in the Regional Programs Unit within 30 days following the meeting. Written comments may be emailed to Brooke Peery (DFO) at bpeery@usccr.gov.

Records and documents discussed during the meeting will be available for public viewing prior to and after the meeting at https://www.facadatabase.gov/FACA/FACAPublicViewCommitteeDetails?id=a10t0000001gzkUAAQ.

Please click on the “Meeting Details” and “Documents” links. Records generated from this meeting may also be inspected and reproduced at the Regional Programs Unit, as they become available, both before and after the meeting. Persons interested in the work of this Committee are directed to the Commission's website, https://www.usccr.gov, or may contact the Regional Programs Unit at (312) 353-8311.

Agenda

I. Welcome & Roll Call

II. Committee Discussion

III. Public Comment

IV. Adjournment

David Mussatt,
Supervisory Chief, Regional Programs Unit.

[FR Doc. 2023-15888 Filed 7-26-23; 8:45 am]

BILLING CODE P